DEPARTMENT OF AGRICULTURE

National Agricultural Statistics Service

Notice of Appointment to the Advisory Committee on Agriculture Statistics

AGENCY: National Agricultural Statistics Service, USDA.

ACTION: Notification of appointment to the Advisory Committee on Agriculture Statistics.

SUMMARY: The Office of the Secretary of Agriculture announces members appointed to the Advisory Committee on Agriculture Statistics, in accordance with the Federal Advisory Committee Act, 5 U.S.C. App. II.

FOR FURTHER INFORMATION CONTACT: Carol House, Executive Director, Advisory Committee on Agriculture Statistics, U.S. Department of Agriculture, National Agricultural Statistics Service, Telephone: 202-720-4333, Fax: 202-720-9013, or e-mail: chouse@nass.usda.gov.

SUPPLEMENTARY INFORMATION: The appointment for the twenty-five member committee, which has representation across seven categories that covers a broad range of agricultural disciplines and interests, was signed on November 28, 2003. Appointed members, by their associated category are: Consumer and Information Organizations—Ross Ronald Racine, Billings, MT; James Dennis Rieck, Winfield, IL; Robert W. Spear, Nobleboro, ME. Educational Organizations—R. Edmund Gomez, Alcalde, NM; Ling-Jung (Kelvin) Koong, Corvallis, OR; Bobby Ray Phills, Tallahassee, FL. Farm Services Organizations—Jacklyn M. Folsom, Cabot, VT; John Irving Gifford, Rock Island, IL; Jack Charles Mitenbuler, Indianapolis, IN; Ranvir Singh, Marysville, CA; Mark Edward Whalon, East Lansing, MI. Government Agencies—Robert Dale Epperson, Fresno, CA. National Farm Organizations—Carol Ann Gregg, Grove City, PA; Mark W. Jenner, Mt. Prospect, IL; Sheila Kay Massey, Animas, NM; Ivan W. Wyatt, Cedar Point, KS. Producer and Marketing Organizations—Gary Adams, Cordova, TN; Roger M. Cryan, Fairfax, VA; William George Lapp, Omaha, NE.; Lucy C. Meyring, Walden, CO.; Ron Olsen, Idaho Falls, ID; Ron Plain, Columbia, MO; Ira Silvergleit, Alexandria, VA. Professional Organizations—Walter J. Armbruster, Darien, IL; Ronald C. Wimberley, Raleigh, NC.

The duties of the Committee are solely advisory. The Committee will make recommendations to the Secretary of Agriculture with regards to the agricultural statistics program of the National Agricultural Statistics Service (NASS) and such other matters as it may deem advisable, or which the Secretary of Agriculture, Under Secretary for Research, Education, and Economics, or the Administrator of NASS may request. The Advisory Committee meeting will be held on February 17-18, 2004. All meetings are open to the public. Committee members will be reimbursed for official travel expenses only.

Signed at Washington, DC, February 5, 2004.
R. Ronald Bosecker,
Administrator, National Agricultural Statistics Service.

[FR Doc. 04-3764 Filed 2-20-04; 8:45 am]

BILLING CODE 3410-20-P